DEPARTMENT OF TRANSPORTATION

Federal Aviation Administration

14 CFR Part 135

[Docket No. FAA-2010-0982]

RIN 2120-AJ53

Helicopter Air Ambulance, Commercial Helicopter, and Part 91 Helicopter Operations; Clarification

AGENCY: Federal Aviation Administration (FAA), DOT.

ACTION: Final rule; clarification.

SUMMARY: This document provides clarification of the intent of the Approach/Departure IFR Transitions regulation contained in the Helicopter Air Ambulance, Commercial Helicopter, and Part 91 Helicopter Operations final rule, published on February 22, 2014. After publication, the FAA received comments and questions from intended users and industry advocacy groups about the clarity of terms used in this regulation, specifically, regarding the use of published instrument approaches and departures and the visibility limitations and differences between the terms “proceed visually” and “proceed VFR”. The FAA is clarifying the terms and intent of this regulation in order to increase situational awareness and enhance Helicopter Air Ambulance safety. This clarification is intended for Part 135 air carriers engaged in helicopter air ambulance operations, and Principal Inspectors with oversight responsibility for helicopter air ambulance operations.

DATES: Effective September 30, 2014.

FOR FURTHER INFORMATION CONTACT: For technical questions, contact Andrew C. Pierce, Air Transportation Division, Flight Standards Service, Federal Aviation Administration; telephone (202) 267-8238; email andy.pierce@faa.gov. For legal questions contact Nancy Sanchez, Regulations Division, Office of the Chief Counsel, Federal Aviation Administration; telephone (202) 267-3073; email nancy.sanchez@faa.gov.

SUPPLEMENTARY INFORMATION: On February 21, 2014, the FAA published a final rule entitled, “Helicopter Air Ambulance, Commercial Helicopter, and part 91 Helicopter Operations” (79 FR 9932) (effective date delayed on April 21, 2014, at 79 FR 22012; final rule corrected at 79 FR 41125, July 15, 2014). In that final rule, the FAA addressed helicopter air ambulance operations and all commercial helicopter operations conducted under part 135. The FAA also established new weather minimums for helicopters operating under part 91 in Class G airspace. In the February 21, 2014, final rule, the FAA, among other things, added § 135.613 to Title 14, Code of Federal Regulations. Section 135.613, Approach/departure IFR transitions, describes the required weather minimums to transition into and out of the IFR environment, aiding in the transition from the minimum descent altitude on an instrument approach procedure, to the point of intended landing.

Background

Copter Point-in-Space Instrument Approach Procedures with a final visual segment are designed to accommodate one of two types of visual transitions between the missed approach point (MAP) and the intended point of landing. The approach procedure may depict a visual transition noted as “proceed visually” or a visual transition noted as “proceed VFR”. “Proceed visually” transition segments are designed with relatively short distances between the MAP and the intended landing site and are considered a continuation of the IFR procedure. “Proceed VFR” transition segments span longer distances and/or require turns from the final approach course toward a landing facility and therefore require commensurately greater ceilings and visibilities as defined within 14 CFR 135.613. The same may be said about departures from landing facilities to enter the IFR flight environment. Obstacle Departure Procedures (ODP) may provide takeoff minimum weather conditions for IFR departures from the landing site. Other landing facility departures that do not have published takeoff minimums on an ODP must observe higher ceiling and visibility minimums in accordance with 14 CFR 135.613.

Discussion

The FAA received a summary of comments and input from associations and various operators in the helicopter air ambulance industry on the Helicopter Air Ambulance, Commercial Helicopter, and Part 91 Helicopter Operations final rule. The summary paper was prepared by Helicopter Association International (HAI), American Medical Operators Association (AMOA) and the Association of Air Medical Services (AAMS). The various operators stated that the title of 135.613 is misleading and will cause confusion. The commenters explained that the title of the regulation references IFR transitions when it should be referencing VFR transitions.

The FAA clarifies that the regulation addresses IFR clearances and visual or VFR transitions into or out of the IFR flight environment, thus the regulation correctly characterizes the transitions as elements of the IFR environment.

Multiple industry commenters also voiced concerns regarding technical differences between the terms “proceed visually” and “proceed VFR” as applied to transitions for instrument approaches and instrument departures. The following provides further explanation to assist industry in understanding what the difference is between the two terms.

Copter Point-in-Space approaches provide an instrument descent along a predetermined course to safely allow IFR helicopter traffic to descend to a minimum descent altitude (MDA) prior to or upon arriving at MAP. At the MAP, the pilot must assess whether or not the flight can safely and legally proceed to the destination in the meteorological conditions present. Continuation of the flight beyond the MAP must be accomplished via a visual transition segment in accordance with the design of the Instrument Approach Procedure (IAP).

There are two types of visual transition segments associated with continued flight beyond the MAP to one or more nearby landing facilities clustered around the MAP. The published approach procedure will indicate either “proceed visually” or “proceed VFR” along this transition segment. The presence of obstructions and terrain, combined with the distance between the MAP and the landing facility, determine the type of transition and the visibility required to legally and safely make the transition from the MAP to the destination.

If a published approach depicts a “proceed visually” segment, that segment is conducted on a clearance under IFR and is not the subject of discussion under § 135.613. This case is analogous to the visual transition from a MAP to a runway on an IFR approach, which is conducted visually. In the case of the “proceed visually” transition, the minimum required visibility will be indicated on the published procedure. Generally, this means the pilot should be able to see the destination heliport from the MAP. The minimum distance between the MAP and a destination landing facility for a “proceed visually” transition is 0.65 nautical miles. This minimum segment distance is intended to facilitate avoidance of adverse consequences of combined high descent rates and deceleration rates. The minimum visibility for the “proceed visually” transition segment is ¾ nautical mile, so that the pilot should always be able to visually acquire the point of intended landing before beginning the visual segment of the instrument approach. The required visibility is commensurately greater for “proceed visually” transition segments that are longer than 0.65 nautical miles.

If a published approach depicts a “proceed VFR” segment, the visual segment must be conducted under VFR. 14 CFR 135.613 pertains to the “proceed VFR” transition when depicted on the published approach. If the distance between the MAP and the landing facility is less than or equal to one nautical mile, § 135.613(a)(1) sets the minimum visibility to 1 statute mile. If the distance between the MAP and the intended landing site is between one nautical mile and three nautical miles, § 135.613(a)(2) sets the day ceiling and visibility requirements to 600′ and 2 nautical miles, and sets the night ceiling and visibility requirements to 600′ and 3 nautical miles. If the distance between the MAP and the intended landing site is greater than three nautical miles, § 135.613(a)(3) requires the ceiling and visibility to meet either the helicopter air ambulance Class G VFR weather minimums shown in Table 1 of § 135.609, or, if within Class B, C, D, or E airspace, to meet the weather minimums referenced in § 135.205.

With respect to instrument departures, § 135.613(b) addresses only VFR to IFR transitions, not departures conducted under an IFR clearance with takeoff minimums published on an ODP. If a departing flight obtains an IFR clearance valid from lift off and weather meets or exceeds the published ODP takeoff minimums, the pilot can “proceed visually” under the IFR clearance to the Initial Departure Fix (IDF). In this case, there is no VFR segment, the published takeoff weather requirements are in effect, and § 135.613(b) does not apply.

If, however, the departing flight must lift off VFR and “proceed VFR” via an ODP to a point where an IFR clearance becomes effective or to a point where the IFR clearance may be obtained on the way to the IDF, § 135.613(b)(1) applies. This requires a minimum visibility of 1 nautical mile prior to lift off if the IDF is no more than 1 nautical mile away from the point of lift off. If the departure involves a VFR to IFR transition and does not meet the requirements of § 135.613(b)(1), (there is no ODP, and/or the IDF is more than 1 nautical mile from the point of lift off), the VFR weather minimums required by the class of airspace apply. If the flight is within Class G airspace, refer to § 135.609; if it is within Class B, C, D, or E airspace, refer to § 135.205.

Issued in Washington, DC, on September 24, 2014.
Michael J. Zenkovich,
Deputy Director, Flight Standards Service.

[FR Doc. 2014-23250 Filed 9-29-14; 8:45 am]

BILLING CODE 4910-13-P